SMALL BUSINESS ADMINISTRATION

[Disaster Declaration #10948]

North Dakota Disaster Number ND-00008

AGENCY: U.S. Small Business Administration.

ACTION: Amendment 1.

SUMMARY: This is an amendment of the Presidential declaration of a major disaster for Public Assistance Only for the State of North Dakota (FEMA-1713-DR), dated 07/17/2007.

Incident: Severe Storms and Flooding.

Incident Period: 06/02/2007 through 06/18/2007.

EFFECTIVE DATE: 08/03/2007.

Physical Loan Application Deadline Date: 09/17/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of North Dakota 07/17/2007, is hereby amended to include the following areas as adversely affected by the disaster.

Primary Counties:

Cass, Cavalier.

All other information in the original declaration remains unchanged.

(Catalog of Federal Domestic Assistance Number 59008)

Herbert L. Mitchell,
Associate Administrator for Disaster Assistance.

[FR Doc. E7-15768 Filed 8-10-07; 8:45 am]

BILLING CODE 8025-01-P